ENVIRONMENTAL PROTECTION AGENCY

[EPA-HQ-OLEM-2020-0259; FRL-10015-37-OMS]

Information Collection Request Submitted to OMB for Review and Approval; Comment Request; Anaerobic Digestion Facilities Processing Wasted Food To Support EPA's Sustainable Materials Management Program and Sustainable Management of Food Efforts (Renewal)

AGENCY: Environmental Protection Agency (EPA).

ACTION: Notice.

SUMMARY: The Environmental Protection Agency (EPA) has submitted an information collection request (ICR), Anaerobic Digestion Facilities Processing Wasted Food to Support EPA's Sustainable Materials Management Program and Sustainable Management of Food Efforts (EPA ICR Number 2533.04, OMB Control Number 2050-0217) to the Office of Management and Budget (OMB) for review and approval in accordance with the Paperwork Reduction Act. This is a proposed renewal of a previous ICR, which is currently approved through September 30, 2020. Public comments were previously requested via the Federal Register on June 5, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 29, 2020.

ADDRESSES: Submit your comments to EPA, referencing Docket ID No. EPA-HQ-OLEM-2020-0259, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Chris Carusiello, U.S. Environmental Protection Agency, Mail Code 5306P, Environmental Protection Agency, 1200 Pennsylvania Ave. NW, Washington, DC 20460; telephone number: (703) 308-8757; fax number: (703) 308-0522; email address: Carusiello.Chris@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Sustainable Management of Food (SMF) is a systematic approach that seeks to reduce wasted food and its associated impacts over the entire lifecycle of food. The lifecycle of food includes use of natural resources, manufacturing, sales, and consumption and ends with decisions on recovery or final disposal. Diversion of food waste from landfills is a critical component of this effort. To effectively divert food waste from landfills, sufficient capacity to process the diverted materials is required, much of which is provided by anaerobic digestion facilities. Knowledge of organics recycling capacity is needed to facilitate food waste diversion.

EPA's food recovery hierarchy prioritizes potential actions to prevent and divert wasted food. According to the hierarchy, processing wasted food via anaerobic digestion is a more desirable option than landfilling or incineration because it creates more benefits for the environment, society, and the economy. Anaerobic digestion of food waste and other organic materials generates renewable energy, reduces methane emissions to the atmosphere, and provides opportunities to improve soil health through the production of soil amendments. The SMF work supports these efforts by educating state and local governments and communities about the benefits of wasted food diversion. The SMF work also builds partnerships with state agencies and other strategic partners interested in developing organics recycling capacity and provides tools to assist organizations in developing anaerobic digestion (AD) projects.

The nationwide collection of data about AD facilities processing food waste began in 2017 with a survey of all known AD facilities under the currently approved ICR. EPA published the first annual report of findings based on these data in July 2018, and second in September 2019. EPA is renewing this ICR in order to continue to monitor growth and evaluate trends in the capacity for processing of food waste and the amount of food waste being processed via AD in the United States.

Data will be collected using electronic surveys that will be distributed to respondents by email and will be available on EPA's AD website. Participation in this data collection effort is voluntary. Respondents are not required to reveal confidential business information.

Form Numbers: EPA Form 6700-03, EPA Form 6700-04, EPA Form 6700-05.

Respondents/affected entities: Project Developers, Project Owners or Plant Operators, and Livestock Farmers.

Respondent's obligation to respond: Voluntary.

Estimated number of respondents: 254 (total).

Frequency of response: Annually.

Total estimated burden: 127 hours (per year). Burden is defined at 5 CFR 1320.03(b).

Total estimated cost: $7,615 (per year), includes $0 annualized capital or operation & maintenance costs.

Changes in the estimates: This renewal request contains no change in burden compared to the ICR currently approved by OMB.

Courtney Kerwin,
Director, Regulatory Support Division.

[FR Doc. 2020-21525 Filed 9-28-20; 8:45 am]

BILLING CODE 6560-50-P